DEPARTMENT OF COMMERCE

International Trade Administration

[A-570-890]

Wooden Bedroom Furniture From the People's Republic of China: Rescission of 2019 Antidumping Duty Administrative Review

AGENCY: Enforcement and Compliance, International Trade Administration, Department of Commerce.

SUMMARY: The Department of Commerce (Commerce) is rescinding the administrative review of the antidumping duty (AD) order on wooden bedroom furniture (WBF) from the People's Republic of China (China) (the Order) for the period of review (POR) January 1, 2019, through December 31, 2019, based on the timely withdrawal of all requests for review.

DATES: Applicable September 11, 2020.

FOR FURTHER INFORMATION CONTACT: Paola Aleman Ordaz, AD/CVD Operations, Office IV, Enforcement and Compliance, International Trade Administration, U.S. Department of Commerce, 1401 Constitution Avenue NW, Washington, DC 20230; telephone: (202) 482-4031.

SUPPLEMENTARY INFORMATION:

Background

On January 2, 2020, Commerce published in the Federal Register a notice of opportunity to request an administrative review of the Order for the POR.¹ In accordance with section 751(a)(1) of the Tariff Act of 1930, as amended (the Act), and 19 CFR 351.213(b), between January 22, 2020, and January 31, 2020, Guangzhou Maria Yee Furnishings Ltd., Pyla HK Limited, and Maria Yee, Inc. (collectively, Maria Yee); ² Kimball International, Inc., Kimball Furniture Group, Inc., and Kimball Hospitality Inc. (collectively, Kimball); ³ and the American Furniture Manufacturers Committee for Legal Trade and Vaughan-Bassett Furniture Company, Inc. (collectively, the petitioners),⁴ requested a review of the Order with respect to a number of companies. On March 10, 2020, in accordance with section 751(a) of the Act and 19 CFR 351.221(c)(1)(i), Commerce initiated an administrative review of the Order with respect to the companies named by the requesting parties.⁵ Between May 8, 2020 and May 11, 2020, Maria Yee, Kimball, and the petitioners timely withdrew their review requests for all companies.⁶

¹ See Antidumping or Countervailing Duty Order, Finding, or Suspended Investigation; Opportunity to Request Administrative Review, 85 FR 64 (January 2, 2020).

² See Maria Yee's' letter “Wooden Bedroom Furniture from the People's Republic of China; Request for Administrative Review and Request for Voluntary Respondent Treatment” dated January 22, 2020.

³ See Kimball's letter “Wooden Bedroom Furniture from The People's Republic of China: Request For Initiation of Antidumping Duty Administrative Review” dated January 31, 2020.

⁴ See the Petitioners' letter “Wooden Bedroom Furniture from the People's Republic of China: Request For Initiation Of Administrative Review” dated January 31, 2020.

⁵ See Initiation of Antidumping and Countervailing Duty Administrative Reviews, 85 FR 13860 (March 10, 2020).

⁶ See the Petitioners' letter “Wooden Bedroom Furniture from the People's Republic of China: Withdraw of Request for Administrative Review” dated May 8, 2020; Kimball's letter “Wooden Bedroom Furniture from The People's Republic of China: Withdraw of Request Review” dated May 8, 2020; and Maria Yee's letter “Wooden Bedroom Furniture from the People's Republic of China; Maria Yee's Withdrawal of Request for Review” dated May 11, 2020.

Rescission of Review

Pursuant to 19 CFR 351.213(d)(1), Commerce will rescind an administrative review, in whole or in part, if the parties that requested the review withdraw their requests within 90 days of the publication date of the notice of initiation of the requested reviews. The requesting parties withdrew all of their requests for review within the 90-day deadline. Because Commerce received no other requests for review, we are rescinding the administrative review of the AD order on wooden bedroom furniture from China covering the POR January 1, 2019, through December 31, 2019, in its entirety, in accordance with 19 CFR 351.213(d)(1).⁷

⁷ Although all requests for an administrative review of Kunshan Jujia Decoration Design Co., Ltd. (Kushan Jujia) covering the period January 1, 2019, through December 31, 2019, were withdrawn, Kushan Jujia remains under review in an ongoing new shipper review covering the period January 1, 2019, through December 31, 2019 (see Wooden Bedroom Furniture from the People's Republic of China: Initiation of Antidumping Duty New Shipper Review, 85 FR 11342 (February 27, 2020)).

Assessment

Commerce will instruct U.S. Customs and Border Protection (CBP) to assess antidumping duties on all appropriate entries of wooden bedroom furniture from China during the period January 1, 2019, through December 31, 2019, at rates equal to the cash deposit rates for estimated antidumping duties required at the time of entry, or withdrawal from warehouse, for consumption, in accordance with 19 CFR 351.212(c)(1)(i). Commerce intends to issue appropriate assessment instructions to CBP 15 days after the date of publication of this notice in the Federal Register.⁸

⁸ Because Kunshan Jujia remains under review in an ongoing new shipper review, we will not instruct CBP to liquidation entries of subject merchandise from Kushan Jujia until the conclusion of the new shipper review.

Notification to Importers

This notice serves as the only reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Order

This notice also serves as the only reminder to parties subject to administrative protective orders (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: September 8, 2020.
James Maeder,
Deputy Assistant Secretary for Antidumping and Countervailing Duty Operations.

[FR Doc. 2020-20074 Filed 9-10-20; 8:45 am]

BILLING CODE 3510-DS-P